DEPARTMENT OF DEFENSE

Defense Acquisition Regulations System

48 CFR Part 212

Acquisition of Commercial Items

CFR Correction

212.504 [Corrected]

In Title 48 of the Code of Federal Regulations, Chapter 2 (Parts 201—299), revised as of October 1, 2011, on page 73, in section 212.504, paragraph (a) is corrected by redesignating (iv) through the first paragraph (xvii) as (iii) through (xvi).

[FR Doc. 2012-23917 Filed 9-26-12; 8:45 am]

BILLING CODE 1505-01-D